DEPARTMENT OF THE INTERIOR

Bureau of Land Management

[NVN-089176 & NVN-091072 LLNVS00560 L51010000.ER0000 LVRWF1103400]

Notice of Availability: Record of Decision for KRoad Moapa Solar Facility

AGENCY: Bureau of Land Management, Interior.

ACTION: Notice of availability.

SUMMARY: The Bureau of Land Management (BLM) announces the Notice of Availability (NOA) of the Record of Decision (ROD) for the KRoad Moapa Solar Facility located in Clark County, Nevada. The Secretary of the Interior approved the ROD on June 21, 2012, which constitutes the final decision of the Department of the Interior.

ADDRESSES: Copies of the ROD are available upon request from the BLM Southern Nevada District Office, 4701 N. Torrey Pines Drive, Las Vegas, Nevada 89130, or via the Internet at the following Web site: http://www.blm.govl/nv/st/en/fo/lvfo.html.

FOR FURTHER INFORMATION CONTACT: Gregory Helseth, Renewable Energy Project Manager; telephone: (702) 515-5173; mailing address: BLM Southern Nevada District Office, 4701 N. Torrey Pines Drive, Las Vegas, Nevada 89130; or email: Gregory_Helseth@blm.gov.

SUPPLEMENTARY INFORMATION: The applicant, KRoad Moapa Solar, LLC, (KRoad) filed two right-of-way (ROW) applications to construct a 500 kV transmission line, NVN-89176, as well as an access road, NVN-91072, on BLM administered lands as ancillary facilities for a 350 megawatt (MW) solar generation facility on the Moapa River Indian Reservation (Reservation). The BLM was a cooperating agency with the Bureau of Indian Affairs (BIA) on the KRoad Moapa Solar Facility. The purpose of the project is to provide access to the transmission grid via the Crystal Substation; to supply power to the Moapa Travel Plaza and a water line to the solar energy facility.

The BLM's purpose and need for the proposed Federal action responds to KRoad's application for an up to 500 kV transmission line and access road ROW's within an existing BLM administered utility corridor, of which five miles are located on the Reservation and 0.5 miles is located on BLM land just south of the Reservation boundary, pursuant to the Federal Land Policy and Management Act and BLM's ROW regulations. The transmission corridor and access road ROW will be approximately 150 feet wide by approximately 5.5 miles long, for approximately 100 acres. The transmission line and access road supports the KRoad solar project by providing access to the transmission grid.

The Final EIS analyzed three alternatives: The Proposed Action, Alternative I; Reduced Solar Facility Footprint and Alternative 500kV Transmission line; and the No Action Alternative. These alternatives were shaped in part by comments received from the public and internal BLM, BIA, and Tribal review.

The BLM Proposed Action (Selected Alternative) includes an up to 500kV transmission line ROW and parallel access road. The transmission line is approximately 5.5 miles long, with five miles being within the Moapa Band of Paiute Indians reservation (Pub. L. 96-491) in a BLM administered utility corridor, and the remaining half mile on BLM lands. The transmission line ROW would be approximately 5.5 miles long by 150 feet wide and encompass approximately 100 acres. The access road ROW will be within the transmission line ROW foot print and will be approximately 16-24 feet wide and approximately 5.5 miles long. The transmission line and access road provide access to the Crystal substation operated by NV Energy.

The No Action Alternative assumed the BLM ROW's would not be issued.

The NOA (77 FR 15750) for the Final EIS, was published in the Federal Register by the EPA on March 16, 2012. The publication of the NOA for the Final EIS initiated a 30-day review period on the Final EIS. The comment period ended on April 16, 2012.

The BLM and the BIA received two letters as a result of the NOA. The BLM and the BIA determined that there were no significant new information presented in the letters that would require reissuance of the Draft or Final EIS. A final response comment table is attached to the ROD as (Attachment B). Because the Record of Decision was approved by the Secretary of the Interior, it is not subject to administrative appeal (43 CFR 4.410(a)(3)).

Authority: 40 CFR 1506.6 and 1506.10.

Michael J. Pool,
Acting Director, Bureau of Land Management.

[FR Doc. 2012-16011 Filed 6-28-12; 8:45 am]

BILLING CODE 4310-HC-P